DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, its amendments, and such other appropriate matters that the Under Secretary refers to the Panel for review and advice.

DATES: Date and Time: The public meeting will be held on May 22-24, 2012. May 22nd from 8:30 a.m. to 5:45 p.m.; May 23rd from 8:30 a.m. to 5:15 p.m.; and May 24th from 8:30 a.m. to 5:00 p.m.

Location: Hilton Anchorage, 500 West Third Avenue, Anchorage, Alaska, 99501, tel: (907) 272-7411. Refer to the HSRP Web site listed below for the most current meeting agenda. Times and agenda topics are subject to change.

FOR FURTHER INFORMATION CONTACT: Kathy Watson, HSRP Program Coordinator, National Ocean Service (NOS), Office of Coast Survey, NOAA (N/CS), 1315 East West Highway, Silver Spring, Maryland 20910; Telephone: 301-713-2770 ext. 158; Fax: 301-713-4019; Email: Hydroservices.panel@noaa.gov or visit the NOAA HSRP Web site at http://nauticalcharts.noaa.gov/ocs/hsrp/hsrp.htm.

SUPPLEMENTARY INFORMATION: The meeting will be open to the public and public comment periods (on-site) will be scheduled at various times throughout the meeting. These comment periods will be included in the final agenda published before May 14, 2012, on the HSRP Web site listed above. Each individual or group making a verbal presentation will be limited to a total time of five (5) minutes. Comments will be recorded. Written comments should be submitted to Hydroservices.panel@noaa.gov by May 11, 2012. Written comments received after May 11, 2012 will be distributed to the HSRP, but may not be reviewed until the meeting. Approximately 30 seats will be available for the public, on a first-come, first-served basis.

Matters To Be Considered: Discussion, dialogue and deliberation on navigation services issues for the Alaska/Arctic region such as: (1) The importance and need for quality and timely delivery of NOAA's navigation products, services, and information for the Alaska/Arctic region; (2) multi-mission application of NOAA's geospatial, tide and water level, and hydrographic products, services and information for the Alaska/Arctic region; (3) the use and need of navigation services to support NOAA's Arctic Vision and Strategy; and (4) provide non-navigation users with services, data, products and expertise. Two stakeholder panels will present and identify issues, recommend improvements for and/or address concerns related to Alaska/Arctic regional navigation and geospatial, tide and water level, products, services and information, as well as environmental hazards and coastal management. There will be four breakout sessions where HSRP Panel members will meet with stakeholders and users to hear and discussn ideas/suggestions for improvements to NOAA's navigation, geospatial, tide and water level products, services and information for the Alaska/Arctic region. Other matters to be discussed will include HSRP working group updates, meeting administration, and public comments.

Dated: April 12, 2012.
John E. Lowell, Jr.,
Director, Office of Coast Survey, National Ocean Service, National Oceanic and Atmospheric Administration.

[FR Doc. 2012-9702 Filed 4-25-12; 8:45 am]

BILLING CODE 3510-JE-P